Title 3—

The President

Proclamation 7345 of September 22, 2000

National Older Workers Employment Week, 2000

By the President of the United States of America

A Proclamation

As a Nation, we are growing older, and so is our workforce. Today, there are 49 million workers in America aged 45 years or older—approximately 35 percent of America's labor force—and by 2008, that number will grow to 62 million, or about 40 percent of the workforce. One in four Americans between the ages of 65 and 69 has at least a part-time job, and 80 percent of the “baby boom” generation intends to keep working past the age of 65. Increasingly, older Americans want to work, and for most, the opportunity to work adds not only to the length but also to the quality of their lives.

The abilities, experience, and strong work ethic of these older Americans are a precious resource for our Nation in today's strong economy. With the unemployment rate at its lowest level in more than a generation, businesses urgently need to hire more workers if they are to keep pace with the demand for their products and services. Too often overlooked or underutilized, older workers offer employers a broad and diverse pool of talent.

Recognizing the importance of older workers to our Nation and our economy, the Congress unanimously passed, and I was proud to sign into law, the Senior Citizens' Freedom to Work Act of 2000. This legislation eliminates the Social Security retirement earnings test, a provision that withheld benefits from Americans working beyond the age of 65. It allows older Americans to enjoy the extra income and personal fulfillment that work offers without being penalized, and it ensures that companies facing labor shortages will have a greater supply of experienced workers. The Act will also help our economy grow without inflation and encourage Americans to work longer, thus contributing more to the tax base and to the Social Security trust fund at precisely the time when the percentage of younger workers paying into the system will be decreasing.

Older Americans have contributed much to the life of our Nation and to the extraordinary growth and prosperity we enjoy today. We owe them our respect and gratitude; we also owe them the opportunity to continue working as long as they desire. Through laws such as the Older Americans Act, which I have called on the Congress to reauthorize and strengthen, the Age Discrimination Act, the Age Discrimination in Employment Act, and now the Senior Citizens' Freedom to Work Act, the United States Government guarantees that opportunity. And, through the Senior Community Service Employment Program at the Department of Labor and the Administration on Aging at the Department of Health and Human Services, older workers have access to the programs and services they need to continue making their own vital contributions to the American workplace.

NOW, THEREFORE, I, WILLIAM J. CLINTON, President of the United States of America, by virtue of the authority vested in me by the Constitution and laws of the United States, do hereby proclaim September 24 through September 30, 2000, as National Older Workers Employment Week. I urge employers across the Nation to recognize the energy and ability of older Americans and to develop new strategies for recruiting and utilizing older workers. I also encourage public officials responsible for job placement, training, and related services to intensify their efforts throughout the year to assist older workers in finding suitable jobs and training.

IN WITNESS WHEREOF, I have hereunto set my hand this twenty-second day of September, in the year of our Lord two thousand, and of the Independence of the United States of America the two hundred and twenty-fifth.

wj

[FR Doc. 00-24943

Filed 9-26-00; 8:45 am]

Billing code 3195-01-P